GENERAL SERVICES ADMINISTRATION

[Notice-MC-2011-3; Docket No. 2011-0006; Sequence 20]

The President's Management Advisory Board (PMAB); Notification of Upcoming Public Advisory Meeting

AGENCY: Office of Executive Councils, U.S. General Services Administration (GSA).

ACTION: Meeting notice.

SUMMARY: The President's Management Advisory Board (PMAB), a Federal Advisory Committee established in accordance with the Federal Advisory Committee Act (FACA), 5 U.S.C., App., and Executive Order 13538, will hold a public meeting on Friday, November 4, 2011.

DATES: Effective date: October 21, 2011.

Meeting date: The meeting will be held on Friday, November 4, 2011, beginning at 11 a.m. eastern time, ending no later than 3 p.m.

FOR FURTHER INFORMATION CONTACT: Mr. Stephen Brockelman, Designated Federal Officer, President's Management Advisory Board, Office of Executive Councils, General Services Administration, 1776 G Street, NW., Washington, DC 20006, at stephen.brockelman@gsa.gov.

SUPPLEMENTARY INFORMATION:

Background: The PMAB was established to provide independent advice and recommendations to the President and the President's Management Council on a wide range of issues related to the development of effective strategies for the implementation of best business practices to improve Federal Government management and operation, with a particular focus on productivity and the application of technology.

Agenda: The main purpose for this meeting is for the PMAB to hear reports from federal agency executives regarding their efforts implementing the latest PMAB recommendations to the President's Management Council. The Board made recommendations at its September 23, 2011, teleconference aimed at improving Information Technology (IT) portfolio and project management, IT vendor performance management, Senior Executive Service (SES) leadership development and SES performance appraisal systems. More detailed information on the PMAB recommendations can be found on the PMAB Web site (see below).

Meeting Access: The PMAB will convene its meeting in the Eisenhower Executive Office Building, 1650 Pennsylvania Avenue, NW., Washington, DC. Due to security, there will be no public admittance to the Eisenhower Building to attend the meeting. However, the meeting is open to the public; interested members of the public may view the PMAB's discussion at http://www.whitehouse.gov/live. Members of the public wishing to comment on the discussion or topics outlined in the Agenda should follow the steps detailed in Procedures for Providing Public Comments below.

Availability of Materials for the Meeting: Please see the PMAB Web site (http://www.whitehouse.gov/administration/advisory-boards/pmab) for any available materials and detailed meeting minutes after the meeting.

Procedures for Providing Public Comments: In general, public statements will be posted on the PMAB Web site (see above). Non-electronic documents will be made available for public inspection and copying in PMAB offices at GSA, 1776 G Street NW., Washington, DC 20006, on official business days between the hours of 10 a.m. and 5 p.m. eastern time. You can make an appointment to inspect statements by telephoning (202) 501-1398. All statements, including attachments and other supporting materials, received are part of the public record and subject to public disclosure. Any statements submitted in connection with the PMAB meeting will be made available to the public under the provisions of the Federal Advisory Committee Act.

The public is invited to submit written statements for this meeting to the PMAB prior to the meeting until 5 p.m. eastern time on Thursday, November 3, 2011, by either of the following methods:

Electronic or Paper Statements: Submit written statements to Mr. Brockelman, Designated Federal Officer at stephen.brockelman@gsa.gov; or send paper statements in triplicate to Mr. Brockelman at the PMAB GSA address above.

Dated: October 13, 2011.
Robert Flaak,
Director, Office of Committee and Regulatory Management, General Services Administration.

[FR Doc. 2011-27335 Filed 10-20-11; 8:45 am]

BILLING CODE 6820-BR-P